DEPARTMENT OF ENERGY

Federal Energy Regulatory Commission

[Docket No. IC24-24-000]

Commission Information Collection Activities (FERC-725V); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-725V, Mandatory Reliability Standards: COM Reliability Standards. There are no changes to the reporting requirements with this information collection.

DATES: Comments on the collection of information are due October 21, 2024.

ADDRESSES: You may submit copies of your comments (identified by Docket No. IC24-24-000) by one of the following methods:

Electronic filing through https://www.ferc.gov, is preferred.

• Electronic Filing: Documents must be filed in acceptable native applications and print-to-PDF, not in scanned or picture format.

• For those unable to file electronically, comments may be filed by USPS mail or by other delivery methods:

○ Mail via U.S. Postal Service Only: Federal Energy Regulatory Commission, Secretary of the Commission, 888 First Street NE, Washington, DC 20426.

○ All other delivery services: Federal Energy Regulatory Commission, Office of the Secretary, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Doug Reimel may be reached by email at DataClearance@FERC.gov, telephone at (202) 502-6461.

SUPPLEMENTARY INFORMATION:

Title: FERC-725V, Mandatory Reliability Standards: COM Reliability Standards.

OMB Control No.: 1902-0277.

Type of Request: Three-year extension of the FERC-725V information collection requirements with no changes to the current reporting requirements.

Abstract: On August 15, 2016, the North American Electric Reliability Corporation (NERC) filed a petition for Commission approval, pursuant to section 215(d)(1) of the Federal Power Act (“FPA”) ¹ and Section 39.5 ² of the Federal Energy Regulatory Commission's regulations, for Reliability Standard COM-001-3 (Communications), the associated Implementation Plan, retirement of currently-effective Reliability Standard COM-001-2.1, and Violation Risk Factors (“VRFs”) and Violation Severity Levels (“VSLs”) associated with new Requirements R12 and R13 in Reliability Standard COM-001-3. Reliability Standard COM-001-3 reflects revisions developed under Project 2015-07 Internal Communications Capabilities, in compliance with the Commission's directive in Order No. 888 that NERC “develop modifications to COM-001-2, or develop a new standard, to address the Commission's concerns regarding ensuring the adequacy of internal communications capability whenever internal communications could directly affect the reliability opera.

¹ 16 U.S.C. 824o (2012).

² 18 CFR 39.5 (2015).

Reliability Standards COM-001-2 and COM-002-4 do not require responsible entities to file information with the Commission. COM-001-2 requires that transmission operators, balancing authorities, reliability coordinators, distribution providers, and generator operators to maintain documentation of interpersonal communication capability and designation of Alternate Interpersonal Communication, as well as evidence of testing of the Alternate Interpersonal Communication facilities. COM-002-4 requires balancing authorities, distribution providers, reliability coordinators, transmission operators, and generator operators to develop and maintain documented communication protocols, and to be able to provide evidence of training on the protocols in their annual assessment. Additionally, all applicable entities (balancing authorities, reliability coordinators, transmission operators, generator operators, and distribution providers) must be able to provide evidence of three-part communication when issuing or receiving an operating instruction during an Emergency.

The one-time consideration of responsibility for COM-002-4 associated with Requirement R1 is no longer needed as entities previously developed protocols associated with effective communication. The ongoing work for COM-001-3 and COM-002-4 will remain the same, but the type of job responsibilities to follow the requirements will be split between an engineer and record-keeper, instead of just an engineer. Since the previous renewal, there has been an incremental increase in the number of respondents who must meet the requirements of these two COM reliability standards.

Type of Respondents: Public utilities.

Estimate of Annual Burden: ³ The Commission estimates the annual public reporting burden for the information collection as:

³ The Commission defines burden as the total time, effort, or financial resources expended by persons to generate, maintain, retain, or disclose or provide information to or for a Federal agency. For further explanation of what is included in the information collection burden, reference 5 Code of Federal Regulations 1320.3.

⁴ BA = balancing authority, RC = Reliability Coordinator, DP = distribution provider, TOP = transmission operator; GOP = generator operators. These values were derived from the NERC Compliance data of April 16, 2024, using only unique United States registered entities.

⁵ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

FERC-725V, Mandatory Reliability Standards: COM Reliability Standards
| Number of respondents ⁴ | Annual number of responses per respondent | Total number of responses | Average burden & cost per response ⁵ | Total annual burden hours & total annual cost | Cost per respondent ($)
| (1) | (2) | (1) * (2) = (3) | (4) | (3) * (4) = (5) | (5) ÷ (1)
Maintain evidence of Interpersonal Communication capability [COM-001-3 R7 and R8] | (DP) 300 | 1 | 300 | 4 hrs. $282.68 | 1,200 hrs. $84,804 | $282.68
| (GOP) 1,028 | 1 | 1,028 | 4 hrs. $282.68 | 4,112 hrs. $290,595.04 | 282.68
Maintain evidence of training and assessments [COM-002-4 R2, R4, R5 and R6] | (BA) 98 | 1 | 98 | 8 hrs. $565.36 | 784 hrs. $55,405.28 | 565.36
| (RC) 12 | 1 | 12 | 8 hrs. $565.36 | 96 hrs. $6,784.32 | 565.36
| (TOP) 165 | 1 | 165 | 8 hrs. $565.36 | 1,320 hrs. $93,284.40 | 565.36
Maintain evidence of training [COM-002-4 R3 and R6] | (DP) 300 | 1 | 300 | 8 hrs. $565.36 | 2,400 hrs. $169,608 | 565.36
| (GOP) 1,028 | 1 | 1,028 | 8 hrs. $565.36 | 8,224 hrs. $581,190.08 | 565.36
Total |  |  | 2,931 |  | 18,136 hrs. $1,281,671.12 |

Comments: Comments are invited on: (1) whether the collection of information is necessary for the proper performance of the functions of the Commission, including whether the information will have practical utility; (2) the accuracy of the agency's estimate of the burden and cost of the collection of information, including the validity of the methodology and assumptions used; (3) ways to enhance the quality, utility and, clarity of the information collection; and (4) ways to minimize the burden of the, collection of information on those who are to respond, including the use of automated collection techniques or other forms of information technology.

Dated: August 13, 2024.
Debbie-Anne A. Reese,
Acting Secretary.

[FR Doc. 2024-18529 Filed 8-19-24; 8:45 am]

BILLING CODE 6717-01-P